DEPARTMENT OF DEFENSE

GENERAL SERVICES ADMINISTRATION

NATIONAL AERONAUTICS AND SPACE ADMINISTRATION

48 CFR Parts 17 and 53

[FAC 2023-01; Item IV; Docket No. FAR-2022-0052; Sequence No. 4]

Federal Acquisition Regulation; Technical Amendments

AGENCY: Department of Defense (DoD), General Services Administration (GSA), and National Aeronautics and Space Administration (NASA).

ACTION: Final rule.

SUMMARY: This document makes amendments to the Federal Acquisition Regulation (FAR) in order to make needed editorial changes.

DATES: Effective: December 30, 2022.

FOR FURTHER INFORMATION CONTACT: Ms. Lois Mandell, Regulatory Secretariat Division (MVCB), at 202-501-4755 or GSARegSec@gsa.gov. Please cite FAC 2023-01, Technical Amendments.

SUPPLEMENTARY INFORMATION: This document makes editorial changes to 48 CFR parts 17 and 53.

List of Subjects in 48 CFR Parts 17 and 53

Government procurement.

William F. Clark,
Director, Office of Government-Wide Acquisition Policy, Office of Acquisition Policy, Office of Government-Wide Policy.

Therefore, DoD, GSA, and NASA amend 48 CFR parts 17 and 53 as set forth below:

1. The authority citation for 48 CFR parts 17 and 53 continues to read as follows:

Authority: 40 U.S.C. 121(c); 10 U.S.C. chapter 4 and 10 U.S.C. chapter 137 legacy provisions (see 10 U.S.C. 3016); and 51 U.S.C. 20113.

PART 17—SPECIAL CONTRACTING METHODS

17.701 [Amended]

2. Amend section 17.701 in the introductory text of the definition of “Nondefense agency that is an element of the intelligence community” by removing the phrase “50 U.S.C. 401a(4)” and adding the phrase “50 U.S.C. 3003(4)” in its place.

PART 53—FORMS

3. Amend section 53.300, in Table 53-1 in paragraph (a), by revising the entry for “SF 273” to read as follows:

53.300 Listing of Standard, Optional, and Agency forms.

* * * * *

(a) * * *

Table 53-1—Forms in the GSA Forms Library
Form No. | Form title
* * * * *
SF 273 | Reinsurance Agreement for a Bonds Statute Performance Bond.
* * * * *

* * * * *

[FR Doc. 2022-25961 Filed 11-30-22; 8:45 am]

BILLING CODE 6820-EP-P